DEPARTMENT OF THE INTERIOR

National Park Service

[NPS-WASO-NAGPRA-NPS0029070; PPWOCRADN0-PCU00RP14.R50000]

Notice of Intent To Repatriate Cultural Items: University of Tennessee, Department of Anthropology, Knoxville, TN, and U.S. Army Corps of Engineers, Omaha District, Omaha, NE

AGENCY: National Park Service, Interior.

ACTION: Notice.

SUMMARY: The University of Tennessee, Department of Anthropology (UTK) and the U.S. Army Corps of Engineers, Omaha District (Omaha District), in consultation with the appropriate Indian Tribes or Native Hawaiian organizations, has determined that the cultural items listed in this notice meet the definition of unassociated funerary objects. Lineal descendants or representatives of any Indian Tribe or Native Hawaiian organization not identified in this notice that wish to claim these cultural items should submit a written request to UTK and Omaha District. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to UTK and Omaha District at the address in this notice by December 9, 2019.

ADDRESSES: Dr. Robert Hinde, University of Tennessee, Office of the Provost, 527 Andy Holt Tower, Knoxville, TN 37996-0152, telephone (865) 974-2445, email rhinde@utk.edu and vpaa@utk.edu. Ms. Sandra Barnum, U.S. Army Engineer District, Omaha, ATTN: CENWO-PM-AB, 1616 Capital Avenue, Omaha, NE 68102, telephone (402) 995-2674, email sandra.v.barnum@usace.army.mil.

SUPPLEMENTARY INFORMATION: Notice is here given in accordance with the Native American Graves Protection and Repatriation Act (NAGPRA), 25 U.S.C. 3005, of the intent to repatriate cultural items under the control of the University of Tennessee, Department of Anthropology, Knoxville, TN, and the U.S. Army Corps of Engineers, Omaha District, Omaha, NE, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

During the summers of 1965 and 1966, 77 lots of cultural items were removed from 39CO9, the Leavenworth site, in Corson County, SD, under the direction of William Bass. After the excavations, Bass transferred the cultural items to the University of Kansas. In 1971 when he moved to Knoxville, Bass transferred the cultural items to UTK. The 77 lots of unassociated funerary objects include six lots of botanicals (wood and seeds), six lots of ceramics, seven lots of fauna (animal bones and hide), 33 lots of glass that include beads, two lots of lithics, 17 lots of metal items, and six lots of minerals.

The Leavenworth site dates to circa A.D. 1800 to 1832. It comprises a village and cemetery. The Leavenworth site is discussed in a number of historical documents, including those of French fur trader Pierre-Antoine Tabeau, who lived with the Arikara at the Leavenworth site, as well as in the Journals of Lewis and Clark, who visited the site in 1804. The site was attacked by Colonel Leavenworth in 1823. George Catlin passed the still-inhabited site on a steamboat in 1832. In 1834, Maximilian, Prince of Wied, visited the Leavenworth site. Finding it abandoned, he collected some human remains. Excavation and removal of human remains and materials at the site continued during the twentieth century under the direction of various individuals, including W.H. Over, M.W. Stirling, W.D. Strong, J.B. Caldwell and William Bass. In addition to the historical documents stating that the Arikara inhabited the Leavenworth site, archeological research on the material culture from the site places it within the Post-Contact Coalescent tradition, which is believed to be affiliated with the Arikara. Today, the Arikara are part of the Mandan, Hidatsa and Arikara Nation, known as the Three Affiliated Tribes of the Fort Berthold Reservation, North Dakota. Consultation with the Three Affiliated Tribes of the Fort Berthold Reservation, North Dakota supports the definition of these objects as unassociated funerary objects. Bass did not collect the related human remains due to their fragmentary nature, but he did assign a burial number to the objects.

Determinations Made by the University of Tennessee, Department of Anthropology and the U.S. Army Corps of Engineers, Omaha District

Officials of the University of Tennessee, Department of Anthropology and the U.S. Army Corps of Engineers, Omaha District have determined that:

• Pursuant to 25 U.S.C. 3001(3)(B), the 77 lots of cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Three Affiliated Tribes of the Fort Berthold Reservation, North Dakota.

Additional Requestors and Disposition

Lineal descendants or representatives of any Indian Tribe or Native Hawaiian organization not identified in this notice that wish to claim these cultural items should submit a written request with information in support of the claim to Dr. Robert Hinde, University of Tennessee, Office of the Provost, 527 Andy Holt Tower, Knoxville, TN 37996-0152, telephone (865) 974-2445, email rhinde@utk.edu and vpaa@utk.edu; and Ms. Sandra Barnum, U.S. Army Engineer District, Omaha, ATTN: CENWO-PM-AB, 1616 Capital Avenue, Omaha, NE 68102, telephone (402) 995-2674, email sandra.v.barnum@usace.army.mil, by December 9, 2019. After that date, if no additional claimants have come forward, transfer of control of the unassociated funerary objects to the Three Affiliated Tribes of the Fort Berthold Reservation, North Dakota may proceed.

The University of Tennessee, Department of Anthropology and the U.S. Army Corps of Engineers, Omaha District are responsible for notifying the Three Affiliated Tribes of the Fort Berthold Reservation, North Dakota, that this notice has been published.

Dated: October 4, 2019.
Melanie O'Brien,
Manager, National NAGPRA Program.

[FR Doc. 2019-24409 Filed 11-7-19; 8:45 am]

BILLING CODE 4312-52-P